DEPARTMENT OF COMMERCE

Minority Business Development Agency

Notice of Solicitation of Nominations for Membership to National Advisory Council on Minority Business Enterprise (NACMBE)

AGENCY: Minority Business Development Agency, Department of Commerce.

ACTION: Notice.

SUMMARY: In March 2010, the Department of Commerce established the National Advisory Council on Minority Business Enterprise (Council) in accordance with the provisions of the Federal Advisory Committee Act, as amended, 5 U.S.C. App. 2, and with the concurrence of the General Services Administration. The purpose of the Council is to advise the Secretary of Commerce (Secretary) on key issues pertaining to the growth and competitiveness of the nation's Minority Business Enterprises (MBEs). The Council's charter provides for not more than 25 members. In October 2010, 21 individuals accepted appointments from the Secretary to serve on the Council. The Department of Commerce is publishing this notice to solicit nominations for the four open Council membership positions for the 2-year charter term, which began in April 2010.

DATES: Complete nomination packages for the four open Council membership positions must be received by the Department of Commerce on or before March 30, 2011 at 5 p.m. Eastern Daylight Time (EDT). MBDA will continue to accept nominations on an ongoing basis and will consider nominations received after the due date if the four open Council membership positions are not filled and as future Council vacancies arise.

ADDRESSES: Nomination packages may be submitted through the mail or may be submitted electronically. Interested persons are encouraged to submit nominations electronically. The deadline is the same for nominations submitted through the mail and for nominations submitted electronically.

1. Submission by Mail: Nominations sent by mail should be addressed to the U.S. Department of Commerce, Minority Business Development Agency, Office of Legislative, Education and Intergovernmental Affairs, Attn: Bria Bailey, 1401 Constitution Avenue, NW., Room 5063, Washington, DC 20230. Applicants are advised that the Department of Commerce's receipt of mail sent via the United States Postal Service may be substantially delayed or suspended in delivery due to security measures. Applicants may therefore wish to use a guaranteed overnight delivery service to ensure nomination packages are received by the Department of Commerce by the deadline set forth in this notice.

2. Electronic Submission: Nomination can be submitted online at: www.mbda.gov/nacmbenominations.

FOR FURTHER INFORMATION CONTACT: Bria Bailey, MBDA Office of Legislative, Education and Intergovernmental Affairs at NACMBEnominations@mbda.gov.

SUPPLEMENTARY INFORMATION: Background: The Council was established in the Department of Commerce as a discretionary advisory committee in accordance with the provisions of the Federal Advisory Committee Act, as amended, 5 U.S.C. App. 2, and with the concurrence of the General Services Administration. The Council will be administered primarily by MBDA. Twenty-one individuals were appointed to the Council by the Secretary in October 2010. The Department of Commerce is requesting nominations to fill the present vacancies on the Council.

Objectives and Scope of Activities: The Council will advise the Secretary on key issues pertaining to the growth and competitiveness of the nation's MBEs, as defined in Executive Order 11625, as amended, and 15 CFR 1400.1. NACMBE will provide advice and recommendations on a broad range of policy issues that affect minority businesses and their ability to successfully access the domestic and global marketplace. These policy issues may include, but are not limited to:

• Methods for increasing jobs in the health care, manufacturing, technology, and “green” industries;

• Global and domestic barriers and impediments;

• Global and domestic business opportunities;

• MBE capacity building;

• Institutionalizing global business curriculums at colleges and universities and facilitating the entry of MBEs into such programs;

• Identifying and leveraging pools of capital for MBEs;

• Methods for creating high value loan pools geared toward MBEs with size, scale and capacity;

• Strategies for collaboration amongst minority chambers, trade associations and nongovernmental organizations;

• Accuracy, availability and frequency of economic data concerning minority businesses;

• Methods for increasing global transactions with entities such as but not limited to the Export-Import Bank, OPIC and the IMF; and

• Requirements for a uniform and reciprocal MBE certification program.

The advice and recommendations provided by the Council may take the form of one or more written reports. The Council will also serve as a vehicle for an ongoing dialogue with the MBE community and with other stakeholders.

The Secretary has determined that the establishment of the Council is necessary and in the public interest in connection with MBDA's duties and responsibilities in advancing the growth and competitiveness of MBEs pursuant to Executive Order 11625, as amended.

Membership: The Council shall be composed of not more than 25 members. The Council members shall be distinguished individuals from the nonfederal sector appointed by the Secretary. The members shall be recognized leaders in their respective fields of endeavor and shall possess the necessary knowledge and experience to provide advice and recommendations on a broad range of policy issues that impact the ability of MBEs to successfully participate in the domestic and global marketplace. The Council shall have a balanced membership reflecting diversity of industries, ethnic backgrounds and geographical regions, and to the extent practicable, gender and persons with disabilities.

The Council members shall be appointed as Special Government Employees for no more than a two-year term and shall serve at the pleasure of the Secretary. Members may be re-appointed to additional two-year terms, without limitation. The Secretary may designate a member or members to serve as the Chairperson or Vice-Chairperson(s) of the Council. The Chairperson or Vice-Chairperson(s) shall serve at the pleasure of the Secretary.

The Council members will serve without compensation, but will be allowed reimbursement for reasonable travel expenses, including a per diem in lieu of subsistence, as authorized by 5 U.S.C. 5703, as amended, for persons serving intermittently in federal government service. The Council members will serve in a solely advisory capacity.

Eligibility: In addition to the above criterion, eligibility for the Council membership is limited to U.S. citizens who are not full-time employees of the Federal Government, are not registered with the U.S. Department of Justice under the Foreign Agents Registration Act and are not a federally-registered lobbyists pursuant to the Lobbying Disclosure Act of 1995, as amended, at the time of appointment to the Council.

Nomination Procedures and Selection of Members: The Department of Commerce is accepting nominations for NACMBE membership for the 2-year charter term that began in April 2010. Members shall serve until the Council charter expires in April 2012, although members may be re-appointed by the Secretary without limitation. Nominees will be evaluated consistent with the factors specified in this notice and their ability to successfully carryout the goals of the Council.

For consideration, a nominee must submit the following materials: (1) Resume, (2) personal statement of interest, including a summary of how the nominee's experience and expertise would support the Council objectives; (3) an affirmative statement that the nominee is not required to register as a foreign agent under the Foreign Agents Registration Act of 1938, as amended, and (4) an affirmative statement that: (a) the nominee is not currently a federally-registered lobbyist and will not be a federally-registered lobbyist at the time of appointment and during his/her tenure as a Council member, or (b) if the nominee is currently a federally-registered lobbyist, that the nominee will no longer be a federally-registered lobbyist at the time of appointment to the Council and during his/her tenure as a Council member. All nomination information should be provided in a single, complete package by the deadline specified in this notice. Nominations packages should be submitted by either mail or electronically, but not by both methods. Self-nominations will be accepted.

Council members will be selected in accordance with applicable Department of Commerce guidelines and in a manner that ensures the Council has a balanced membership. In this respect, the Secretary seeks to appoint members who represent a diversity of industries, ethnic backgrounds and geographical regions, and to the extent practicable, gender and persons with disabilities.

All appointments shall be made without discrimination on the basis of age, ethnicity, gender, disability, sexual orientation, or cultural, religious, or socioeconomic status. All appointments shall also be made without regard to political affiliations.

Dated: February 11, 2011.
David A. Hinson,
National Director, Minority Business Development Agency.

[FR Doc. 2011-4066 Filed 2-23-11; 8:45 am]

BILLING CODE P